NUCLEAR REGULATORY COMMISSION

[Docket No. 50-389]

Florida Power & Light Company, et al.; St. Lucie Unit 2; Environmental Assessment and Finding of No Significant Impact

The U.S. Nuclear Regulatory Commission (NRC) is considering issuance of an exemption from Title 10, Code of Federal Regulations (10 CFR), Part 54, Section 54.17(c), for Facility Operating License No. NPF-16, issued to Florida Power & Light Company, et al. (the licensee), for operation of the St. Lucie Unit 2, located in St. Lucie County, Florida.

Environmental Assessment

Identification of the Proposed Action

The proposed action would exempt the licensee from the requirement of 10 CFR 54.17(c), which specifies that an applicant (for the purposes of license renewal the licensee is the applicant) may apply for a renewed operating license no earlier than 20 years before the expiration of the operating license currently in effect.

The proposed action is in accordance with the licensee's application for an exemption dated October 30, 2000.

The Need for the Proposed Action

In accordance with 10 CFR 54.17(c), the earliest date that the applicant could apply for a renewed operating license for St. Lucie Unit 2 would be April 6, 2003. The proposed action would allow the applicant to file a license renewal application for St. Lucie Unit 2 earlier, and concurrent with the renewal application for St. Lucie Unit 1 which has less than 20 years before expiration of its current operating license on March 1, 2016. The request seeks only schedular relaxation without any other substantive reliefs.

Environmental Impacts of the Proposed Action

The NRC has completed its evaluation of the proposed action. The exemption, if granted, will permit the applicant to apply for renewal of the St. Lucie Unit 2 license sooner than the schedule specified by 10 CFR 54.17(c). When the applicant does apply for license renewal, the environmental impacts of operating the St. Lucie units under the renewed licenses will then be submitted by the applicant and evaluated by the staff. In short, granting of the exemption will not necessitate, or lead to, changes to the as-built plant design, or to existing procedures at the two St. Lucie units.

The staff evaluated potential radiological environmental impacts associated with granting the requested exemption. Since no plant design or procedure changes will be made, no new accident causal mechanisms would be introduced.

The proposed action will not significantly increase the probability or consequences of accidents, no changes are being made in the types of any effluents that may be released off site, and there is no significant increase in occupational or public radiation exposure. Therefore, there are no significant radiological environmental impacts associated with the proposed action.

With regard to the potential nonradiological impacts, the proposed action does not affect any historic sites. The proposed action involves no plant design or procedure changes, it does not increase or decrease nonradiological plant effluents, and has no other environmental impact from those previously evaluated by the staff in the Final Environmental Statement (FES) for the St. Lucie Plant (NUREG-0842). Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the FES.

Agencies and Persons Consulted

In accordance with its stated policy, on January 31, 2001, the staff consulted with Florida State official, William Passetti, Bureau of Radiation Control, regarding the environmental impact of the proposed action. The State official had no comments or objections.

Finding of No Significant Impact

On the basis of the environmental assessment, the NRC concludes that the proposed action will not have a significant effect on the quality of the human environment. Accordingly, the NRC has determined not to prepare an environmental impact statement for the proposed action.

For further details with respect to the proposed action, see the licensee's request for exemption dated October 30, 2000. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland, this 12th day of February 2001.
For the Nuclear Regulatory Commission.
Kahtan N. Jabbour,
Senior Project Manager, Section 2, Project Directorate II, Division of Licensing Project Management, Office of Nuclear Reactor Regulation.

[FR Doc. 01-3952 Filed 2-15-01; 8:45 am]

BILLING CODE 7590-01-P